DEPARTMENT OF ENERGY

Federal Energy Regulatory Commission

Combined Notice of Filings

August 11, 2009.

Take notice that the Commission received the following electric rate filings:

Docket Numbers: ER00-3251-021; ER98-1734-018; ER01-1919-015; ER01-1147-009; ER01-513-024; ER99-2404-014

Applicants: Exelon Generation Company, LLC; Commonwealth Edison Company; Exelon Energy Company; PECO Energy Company; Exelon West Medway, LLC; Exelon New England Power Marketing, LP

Description: Exelon Generation Company, LLC submits Second Revised Sheet 12A et al. to FERC Electric Tariff, First Revised Volume 1.

Filed Date: 08/10/2009

Accession Number: 20090811-0063

Comment Date: 5 p.m. Eastern Time on Monday, August 31, 2009

Docket Numbers: ER03-719-013; ER03-721-012; ER98-830-022

Applicants: Millennium Power Partners, L.P., New Harquahala Generating Company, LLC, New Athens Generating Company, LLC

Description: New Athens Generating Company, LLC, et al. Notice of non-material change in status.

Filed Date: 08/10/2009

Accession Number: 20090810-5118

Comment Date: 5 p.m. Eastern Time on Monday, August 31, 2009

Docket Numbers: ER06-740-004; ER02-1081-005; ER08-1189-002; ER99-2915-003

Applicants: Indeck-Olean Limited Partnership, Indeck-Oswego Limited Partnership, Indeck Energy Services of Silver Springs, Indeckyerkes LTD Partnership

Description: Notice of Non-material Change In Status for Indeck Energy Services of Silver Springs, Inc., et al.

Filed Date: 08/10/2009

Accession Number: 20090810-5076

Comment Date: 5 p.m. Eastern Time on Monday, August 31, 2009

Docket Numbers: ER06-747-002

Applicants: Equilon Enterprises LLC

Description: Equilon Enterprises LLC submits triennial market power update in compliance with requirements of section 35.37 of the regulations the FERC and with letter order dated 5/22/06 granting Seller market-based rate authorization.

Filed Date: 08/10/2009

Accession Number: 20090811-0062

Comment Date: 5 p.m. Eastern Time on Friday, October 09, 2009

Docket Numbers: ER07-509-001; ER08-584-002

Applicants: California Power Holdings, LLC, Thompson River Power, LLC

Description: California Power Holdings, LLC, et al. Notice of Non-Material Change in Status.

Filed Date: 08/11/2009

Accession Number: 20090811-5066

Comment Date: 5 p.m. Eastern Time on Tuesday, September 01, 2009

Docket Numbers: ER09-1064-003

Applicants: California Independent System Operator Corporation

Description: California Independent System Operator Corp submits instant filing in compliance with FERC's 6/26/09 Order.

Filed Date: 08/10/2009

Accession Number: 20090811-0024

Comment Date: 5 p.m. Eastern Time on Monday, August 31, 2009

Docket Numbers: ER09-1554-000

Applicants: RMH Energy, LP

Description: RMH Energy, LP submits application for authorization to make wholesale sales of energy, capacity, and ancillary services at negotiated, market based rates.

Filed Date: 08/10/2009

Accession Number: 20090810-0038

Comment Date: 5 p.m. Eastern Time on Monday, August 31, 2009

Docket Numbers: ER09-1565-000

Applicants: PJM Interconnection, L.L.C.

Description: PJM Interconnection submits executed interconnection service agreement among PJM, Visteon Systems, LLC, and PECO Energy Company.

Filed Date: 08/10/2009

Accession Number: 20090810-0039

Comment Date: 5 p.m. Eastern Time on Monday, August 31, 2009

Docket Numbers: ER09-1566-000

Applicants: Avista Corporation

Description: Avista Corporation submits its Average System Cost filing for sales of electric power to the Bonneville Power Administration.

Filed Date: 08/10/2009

Accession Number: 20090810-0036

Comment Date: 5 p.m. Eastern Time on Monday, August 31, 2009

Docket Numbers: ER09-1567-000

Applicants: Arizona Public Service Company

Description: APS submits revisions to its FERC Electric Rate Schedule No 182.

Filed Date: 08/10/2009

Accession Number: 20090810-0040

Comment Date: 5 p.m. Eastern Time on Monday, August 31, 2009

Docket Numbers: ER09-1568-000

Applicants: CP Energy Marketing (US) Inc.

Description: CP Energy Marketing (US), Inc submits Notice of Succession informing the Commission that they adopt EEMUS's market-based rate tariff etc.

Filed Date: 08/10/2009

Accession Number: 20090811-0025

Comment Date: 5 p.m. Eastern Time on Monday, August 31, 2009

Docket Numbers: ER09-1568-001; ER01-2262-010; ER02-783-008; ER02-855-009; ER03-438-008; ER09-370-003

Applicants: CP Energy Marketing (US) Inc.; Frederickson Power L.P.; EPCOR Merchant and Capital (US) Inc.; EPDC, Inc.; ManChief Power Company LLC; EPCOR USA North Carolina LLC

Description: Notice of Non-Material Change in Facts.

Filed Date: 08/10/2009

Accession Number: 20090810-5135

Comment Date: 5 p.m. Eastern Time on Monday, August 31, 2009

Docket Numbers: ER09-1569-000

Applicants: ISO New England Inc. & New England Power

Description: ISO New England Inc et al. submit revisions to the Forward Capacity Market rules, effective 10/9/09.

Filed Date: 08/10/2009

Accession Number: 20090811-0023

Comment Date: 5 p.m. Eastern Time on Monday, August 31, 2009

Take notice that the Commission received the following PURPA 210(m)(3) filings:

Docket Numbers: QM09-6-001

Applicants: PPL Electric Utilities Corp.

Description: Supplement to Application to Terminate Purchase Obligation of PPL Electric Utilities Corp.

Filed Date: 08/11/2009

Accession Number: 20090811-5068

Comment Date: 5 p.m. Eastern Time on Tuesday, September 08, 2009

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-19932 Filed 8-19-09; 8:45 am]

BILLING CODE 6717-01-P